SMALL BUSINESS ADMINISTRATION

Region III Regulatory Fairness Board; Public Federal Regulatory Enforcement Fairness Hearing

The Small Business Administration Region III Regulatory Fairness Board and the SBA Office of the National Ombudsman will hold a Public Hearing on Monday, June 10, 2002 at 1:30 p.m. at the J. Sargeant Reynolds Community North Run Corporate Center, 1630 East Parham Road, North Run Business Park, Richmond, Virginia 23228, to receive comments and testimony from small business owners, small government entities, and small non-profit organizations concerning regulatory enforcement and compliance actions taken by federal agencies.

Anyone wishing to attend or to make a presentation must contact Lucy Gardner Davis in writing or by fax, in order to be put on the agenda. Lucy Gardner Davis, U.S. Small Business Administration, Richmond District Office, 400 North 8th Street, Federal Building, Suite 1150, P.O. Box 10126, Richmond, VA 23240, phone (804) 771-2400 ext. 145, fax (804) 771-2580, e-mail lucy.davis@sba.gov.

For more information, see our Web site at www.sba.gov/ombudsman.

Dated: May 8, 2002.
Michael L. Barrera,
National Ombudsman.

[FR Doc. 02-12073 Filed 5-14-02; 8:45 am]

BILLING CODE 8025-01-P